EXPORT-IMPORT BANK OF THE UNITED STATES

Economic Impact Policy

This notice is to inform the public that the Export-Import Bank of the United States has received an application to guarantee approximately $20 million in commercial bank financing for the export of approximately $28.9 million of U.S. equipment, including a plasma cold hearth melting system, an electron beam cold hearth melting furnace and a plasma welding unit to a titanium ingot producer in China. The equipment will be used to generate an additional 4,500 metric tons of titanium ingot. Available information indicates that this new production will be consumed 100% in China. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E7-12236 Filed 6-22-07; 8:45 am]

BILLING CODE 6690-01-P